FEDERAL MARITIME COMMISSION

[Docket No. 23-07]

TIR Auto Transport LLC, Complainant, v. V&S Brothers Inc and V&S Cargo Inc, Respondents; Notice of Filing of Complaint and Assignment; Served: August 8, 2023.

Notice is given that a complaint has been filed with the Federal Maritime Commission (“Commission”) by TIR AUTO TRANSPORT LLC (the “Complainant”) against V&S BROTHERS INC and V&S CARGO INC (collectively, the “Respondents”). Complainant states that the Commission has jurisdiction over matters involving contracts for carriage of goods by sea under 46 U.S.C. 30701 and allegations asserted under the Shipping Act of 1984, as amended, 46 U.S.C. 40101 et seq. (the “Shipping Act”), and that this complaint is being filed seeking damages resulting from a violation of 46 U.S.C. 41102(c).

Complainant states that it is in the business of buying and shipping vehicles all over the world and has a principal place of business in Tiraspol, Moldova.

Complainant identifies Respondent V&S BROTHERS INC as a used-car dealer and freight forwarding non-vessel-operating common carrier with a principal place of business in Matawan, New Jersey. Complainant identifies Respondent V&S CARGO INC as a non-vessel-operating common carrier and a corporation registered in the State of New Jersey with a principal place of business in Matawan, New Jersey.

Complainant alleges that Respondents violated 46 U.S.C. 41102(c) regarding a failure to establish, observe, and enforce just and reasonable regulations and practices relating to or connected with receiving, handling, storing, or delivering property. Complainant alleges this violation arose from the shipment of containers to a different location than instructed, the inflation of invoices and conditioning the release of cargo on the payment of such invoice, generally conditioning the release of cargo on the payment of unrelated debt, the failure to release cargo that was fully paid for resulting in an increase in demurrage charges, and the failure to provide a timely, accurate, and compete accounting.

An answer to the complaint must be filed with the Commission within twenty-five (25) days after the date of service.

The full text of the complaint can be found in the Commission's electronic Reading Room at https://www2.fmc.gov/readingroom/proceeding/23-07/. This proceeding has been assigned to the Office of Administrative Law Judges. The initial decision of the presiding judge shall be issued by August 8, 2024, and the final decision of the Commission shall be issued by February 20, 2025.

William Cody,
Secretary.

[FR Doc. 2023-17313 Filed 8-11-23; 8:45 am]

BILLING CODE 6730-02-P